NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by January 6, 2020. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2020-022

1. Applicant: Chris Eckstrom, Frans Lanting Studio, 108 High Road at Delaware Avenue, Santa Cruz, CA 95060.

Activity for Which Permit is Requested: Waste management. The applicant proposes to operate small, battery-operated remotely piloted aircraft systems (RPAS) consisting, in part, of a quadcopter equipped with cameras to collect commercial and educational footage of the Antarctic. The quadcopter would not be flown over concentrations of birds or mammals, or over Antarctic Specially Protected Areas or Historic Sites and Monuments. The RPAS would only be operated by pilots with extensive experience, who are approved by the Tour Operator. Several measures would be taken to prevent against loss of the quadcopter including painting the them a highly visible color; only flying when the wind is less than 25 knots; flying for only until reaching 25% battery life level; having prop guards on propeller tips, a flotation device if operated over water, and an “auto go home” feature in case of loss of control link or low battery; having an observer on the lookout for wildlife, people, and other hazards; and ensuring that the separation between the operator and quadcopter does not exceed visual line of sight of the pilot or observer. The applicant is seeking a Waste Permit to cover any accidental releases that may result from operating the RPAS.

Location: Antarctic Peninsula region.

Dates of Permitted Activities: January 1-February 28, 2020.

Permit Application: 2020-024

2. Applicant: David Lloyd, 40 Bertrand Drive, Princeton, NJ 08540.

Activity for Which Permit is Requested: Waste management.

Location: Signy Island, South Orkney Islands, Antarctica. The applicant proposes to conduct waste management activities an amateur (ham) radio expedition to Signy Island. The applicant would set up a temporary amateur radio station for a period of approximately two weeks to allow other amateur radio operators around the world the opportunity to make a radio contact with Signy Island. To support expedition goals, the applicant would establish a camp near Waterpipe Beach on Signy Island with two shelters. One would be used for the radio communication equipment, another as a rest area and for storage. Several radio antennas would be erected around the camp. No permanent structures would be constructed. Upon completion of the radio operations the camp and antennas would be completely dismantled and the site would be thoroughly inspected to ensure that no trace of the visit remains. Logistical support, including transport of personnel, equipment, prepared food, and fuel from the vessel to the island, transport of waste from the island back to the vessel, and transport of all personnel and equipment off the island at the end of the expedition would be provided by the crew of a chartered vessel. Fuel (unleaded gasoline) for portable generators used to power the radio equipment would be transported and stored in sealed plastic containers. Minimal amounts of fuel would be stored at the camp and best practices, including secondary containment, would be used to minimize the risk of spill during storage or fueling generators. If a liquid or semi-liquid waste or spill occurs, the applicant would collect the spilled materials along with a margin of soil or snow and dispose of the material in a bag contained within a waste drum which will be returned to the support vessel. All waste generated would be securely contained until it can be removed from the island. All waste would be disposed of in port after our return from Antarctica. No waste would be incinerated or left in Antarctica.

Dates of Permitted Activities: February 15-March 31, 2020.

Erika N. Davis,
Program Specialist, Office of Polar Programs.

[FR Doc. 2019-26239 Filed 12-4-19; 8:45 am]

BILLING CODE 7555-01-P